SMALL BUSINESS ADMINISTRATION

[Declaration of Disaster #3423]

State of Minnesota; Amendment #3

In accordance with a notice received from the Federal Emergency Management Agency, dated July 9, 2002, the above-numbered Declaration is hereby amended to include Beltrami, Clay, Itasca, McLeod, Pennington, Polk, and Wright Counties in the State of Minnesota as disaster areas due to damages caused by severe storms, flooding and tornadoes beginning on June 9, 2002 and continuing through June 28, 2002.

In addition, applications for economic injury loans from small businesses located in the following contiguous counties may be filed until the specified date at the previously designated location: Aitkin, Anoka, Carver, Cass, Hennepin, Meeker, Renville, Sherburne, Sibley, Stearns, and Wilkin Counties in Minnesota; and Richland County in North Dakota. All other counties contiguous to the above-named primary counties have been previously declared.

All other information remains the same, i.e., the deadline for filing applications for physical damage is August 13, 2002 and for economic injury the deadline is March 14, 2003.

(Catalog of Federal Domestic Assistance Program Nos. 59002 and 59008)

Dated: July 10, 2002.
Becky C. Brantley,
Acting Associate Administrator for Disaster Assistance.

[FR Doc. 02-17888 Filed 7-15-02; 8:45 am]

BILLING CODE 8025-01-P